DEPARTMENT OF COMMERCE

International Trade Administration

[A-570-970]

Multilayered Wood Flooring From the People's Republic of China: Preliminary Results of the Antidumping Duty Administrative Review, Preliminary Determination of No Shipments, and Rescission of Review, in Part; 2021-2022; Withdrawal

AGENCY: Enforcement and Compliance, International Trade Administration, Department of Commerce.

DATES: Applicable April 22, 2024, FR Doc. 2023-28782, published at 88 FR 90164 on December 29, 2023, is withdrawn.

FOR FURTHER INFORMATION CONTACT: Davyd Williams, AD/CVD Operations, Office VIII, Enforcement and Compliance, International Trade Administration, U.S. Department of Commerce, 1401 Constitution Avenue NW, Washington, DC 20230; telephone: (202) 482-4338.

SUPPLEMENTARY INFORMATION:

Background

On December 29, 2023, the U.S. Department of Commerce (Commerce) erroneously published a duplicate Federal Register notice titled Multilayered Wood Flooring from the People's Republic of China: Preliminary Results of the Antidumping Duty Administrative Review, Preliminary Determination of No Shipments, and Rescission of Review, in Part; 2021-2022. Commerce is withdrawing the above-mentioned notice, Federal Register Doc. 2023-28782.

Notification to Interested Parties

This notice is issued and published pursuant to sections 751(a)(l) and 777(i)(l) of the Tariff Act of 1930, as amended, and 19 CFR 351.221(b)(4).

Dated: April 16, 2024.
Ryan Majerus,
Deputy Assistant Secretary for Policy and Negotiations, performing the non-exclusive functions and duties of the Assistant Secretary for Enforcement and Compliance.

[FR Doc. 2024-08506 Filed 4-19-24; 8:45 am]

BILLING CODE 3510-DS-P